DEPARTMENT OF ENERGY

Federal Energy Regulatory Commission

Notice To Hold Proceeding in Abeyance

| Docket Nos.
Midcontinent Independent System Operator, Inc | EL15-68-003.
Otter Tail Power Co. v. Midcontinent Independent System Operator, Inc | EL15-36-003, ER16-696-004.
Midcontinent Independent System Operator, Inc | EL15-68-003, EL15-68-004.
Otter Tail Power Co. v. Midcontinent Independent System Operator, Inc | EL15-36-003, EL15-36-004.
Midcontinent Independent System Operator, Inc | ER16-696-004, ER16-696-005, ER18-2513-000.

In American Clean Power Ass'n v. FERC, the United States Court of Appeals for the District of Columbia Circuit remanded to the Commission certain orders ¹ concerning transmission owner (TO) Initial Funding ² in the Midcontinent Independent System Operator, Inc. (MISO) region.³ The American Clean Power remand proceeding is pending before the Commission.

¹ Midcontinent Indep. Sys. Operator, Inc., 164 FERC ¶ 61,158 (2018); Midcontinent Indep. Sys. Operator, Inc., 169 FERC ¶ 61,233 (2019).

² Under TO Initial Funding, the transmission owner unilaterally elects to initially fund the network upgrade capital costs that it incurs to provide interconnection service to the interconnection customer, and the transmission owner subsequently recovers the network upgrade capital costs through charges that provide a return on and of these network upgrade capital costs from the interconnection customer. Midcontinent Indep. Sys. Operator, Inc., 187 FERC ¶ 61,170, at P 1 n.1 (2024) (Order to Show Cause).

³ American Clean Power Ass'n v. FERC, 54 F.4th 722, 728 (2022) (American Clean Power remand proceeding).

On June 13, 2024, the Commission issued the Order to Show Cause finding that the existing open access transmission tariffs of certain regional transmission organizations and independent system operators, including MISO, appear to be unjust, unreasonable, and unduly discriminatory or preferential because they include provisions for transmission owners to unilaterally elect TO Initial Funding.⁴

⁴ Order to Show Cause, 187 FERC ¶ 61,170 at P 1.

Upon consideration, given the common issues raised in the American Clean Power remand proceeding and the Order to Show Cause proceeding, notice is hereby given that the American Clean Power remand proceeding is held in abeyance pending the outcome of the Order to Show Cause proceeding.

Dated: June 13, 2024.
Debbie-Anne A. Reese,
Acting Secretary.

[FR Doc. 2024-13525 Filed 6-20-24; 8:45 am]

BILLING CODE 6717-01-P